INTERNATIONAL TRADE COMMISSION

Agency Form Submitted for OMB Review

AGENCY: United States International Trade Commission.

ACTION: In accordance with the provisions of the Paperwork Reduction Act of 1995 (44 U.S.C. Chapter 35), the Commission has submitted a request for emergency processing for review and clearance of questionnaires to the Office of Management and Budget (OMB). The Commission has requested OMB approval of this submission by COB February 19, 2008.

DATES: Effective Date: January 17, 2008.

Purpose of Information Collection: The forms are for use by the Commission in connection with Inv. Nos. AGOA-002, Denim Fabric: Use in AGOA Countries During Fiscal Year 2007, and AGOA-003, Denim Fabric: Commercial Availability in AGOA Countries During Fiscal Year 2009, instituted under section 112(c) of the African Growth and Opportunity Act, as amended (19 U.S.C. 3721(c)). The Commission expects to deliver its reports to the President and the U.S. Trade Representative by July 1, 2008 (Inv. No. AGOA-002) and August 1, 2008 (Inv. No. AGOA-003), respectively.

Summary of Proposal

(1) Number of forms submitted: Two.

(2) Title of forms: U.S. Importers' Questionnaire: Apparel Made from Subject Denim from Beneficiary Sub-Saharan African Countries; and Apparel Manufacturers' Questionnaire-Purchases of Certain Denim from Beneficiary Sub-Saharan African Countries.

(3) Type of request: New.

(4) Frequency of use: Single data gathering scheduled for 2008.

(5) Description of respondents: U.S. importers of apparel from lesser-developed beneficiary sub-Saharan African using certain denim, and certain denim apparel manufacturers located in lesser developed beneficiary sub-Saharan African countries.

(6) Estimated number of respondents: 83 (Importers' questionnaires)

45 (Apparel manufacturers' questionnaires).

(7) Estimated total number of hours for all respondents combined to complete the forms: 422 hours.

(8) Information obtained from the form that qualifies as confidential business information will be so treated by the Commission and not disclosed in a manner that would reveal the individual operations of a firm.

Additional Information Or Comment: Copies of the forms and supporting documents may be obtained from the Commission's Web site at http://www.usitc.gov/ind_econ_ana/research_ana/Ongoing_Inv/index.htm or for Inv. No. AGOA-002 from Justino De La Cruz, Co-Project Leader (202-205-3252, Justino.Delacruz@usitc.gov) of the Office of Economics or Dawn Heuschel, Co-Project Leader (202-205-2577, Dawn.Heuschel@usitc.gov) of the Office of Industries; for Inv. No. AGOA-003 from Kimberlie Freund, Project Leader (202-708-5402, Kimberlie.Freund@usitc.gov) or Andrea Boron, Deputy Project Leader (202-205-3433, Andrea.Boron@usitc.gov) of the Office of Industries. Comments about the proposals should be directed to the Office of Management and Budget, Office of Information and Regulatory Affairs, Room 10102 (Docket Library), Washington, DC 20503, ATTENTION: Docket Librarian. All comments should be specific, indicating which part of the questionnaire is objectionable, describing the concern in detail, and including specific suggested revisions or language changes. Copies of any comments should be provided to Robert Rogowsky, Director, Office of Operations, U.S. International Trade Commission, 500 E Street, SW., Washington, DC 20436, who is the Commission's designated Senior Official under the Paperwork Reduction Act.

Persons with mobility impairments who will need special assistance in gaining access to the Commission should contact the Secretary at 202-205-2000. Hearing impaired individuals are advised that information on this matter can be obtained by contacting our TTD terminal (telephone no. 202-205-1810). General information concerning the Commission may also be obtained by accessing its Internet server (http://www.usitc.gov).

Issued: January 17, 2008.
By order of the Commission.
Marilyn R. Abbott,
Secretary to the Commission.

[FR Doc. E8-1138 Filed 1-22-08; 8:45 am]

BILLING CODE 7020-02-P